ENVIRONMENTAL PROTECTION AGENCY

[ER-FRL-6659-6]

Environmental Impact Statements and Regulations; Availability of EPA Comments

Availability of EPA comments prepared pursuant to the Environmental Review Process (ERP), under Section 309 of the Clean Air Act and Section 102(2)(c) of the National Environmental Policy Act, as amended. Requests for copies of EPA comments can be directed to the Office of Federal Activities at (202) 564-7167.

An explanation of the ratings assigned to draft environmental impact statements (EISs) was published in the Federal Register dated April 2, 2004 (69 FR 17403).

Draft EISs

ERP No. D-BLM-J02046-UT Rating EC2, Castle Peak and Eightmile Flat Oil and Gas Expansion Project, Proposal to Expand Crude Oil and Natural Gas Development and Production Program, Right-of-Way Grant, Duchesne and Uintah Counties, UT.

Summary: EPA expressed environmental concerns about impacts to air quality, including long-range protection of visibility and the lack of analysis of other past, present, and reasonably foreseeable development in the area, and the lack of mitigation measures to protect air and water quality and reduce infestations of invasive non-native plant species.

ERP No. D-FRC-K05059-CA Rating EC2, Upper North Fork Feather River Project (FERC No. 2105), Issuing a New License for Existing 3517.3 megawatt (MW) Hydroelectric Facility, North Fork Feather River, Chester, Plumas County, CA.

Summary: EPA expressed environmental concerns about the analysis of the no-action alternative, and water and air quality impacts, and requested additional information regarding consultation with tribal governments, environmental justice issues, and the analysis of cumulative impacts.

ERP No. D-FRC-K05060-CA Rating EC2, Stanislaus Rivers Projects, Relicensing of Hydroelectric Projects: Spring Gap-Stanislaus FERC No. 2130; Beardsley/Donnells FERC No. 2005; Tulloch FERC No. 2067; and Donnells-Curtis Transmission Line FERC No. 2118, Tuolumne and Calaveras Counties, CA.

Summary: EPA expressed environmental concerns about the analysis of the no-action alternative, and water and air quality impacts; and requested additional information regarding consultation with tribal governments, environmental justice issues, and the analysis of cumulative impacts.

Final EISs

ERP No. F-BLM-L65445-CA King Range National Conservation Area (KRNCA) Resource Management Plan, Implementation, Humboldt and Mendocino Counties, CA.

Summary: No formal comment letter was sent to the preparing agency.

ERP No. F-COE-E39065-FL Central and Southern Florida Project, Comprehensive Everglades Restoration Plan, Aquifer Storage and Recovery (ASR) Pilot Operation, Aquifer Storage and Recovery Pilot Project, To Test the Feasibility for Utilizing ASR Technology for Water Storage at Seven Well Sites, Right-of-Way and NPDES Permits, Several Counties, FL.

Summary: EPA continues to strongly support the present ASR Pilot Projects as well as the concurrent ASR Regional Study as prerequisites to full implementation of 333 ASR wells approved in the CERP Recommended Plan.

ERP No. F-COE-F32197-MS PROGRAMMATIC EIS—Upper Mississippi River and Illinois Waterway System Navigation Feasibility Study (UMR-IWW), Addressing Navigation Improvement Planning and Ecological Restoration Needs, MS, IL, IA, MN, MO, WI.

Summary: Significant progress has been made in addressing EPA's concerns regarding the implementation of the proposed new management strategies that would influence the ecological future of the Upper Mississippi River System. Specific concerns that were addressed focused on defining purpose and need, adaptive management, and phased project approach, alternatives analysis, institutional arrangements, ecosystem restoration, and mitigation/impact analysis. EPA requested that more detailed information on adaptive management and institutional arrangements be included in the Record of Decision.

Dated: January 11, 2005.
Robert W. Hargrove,
Director, NEPA Compliance Division, Office of Federal Activities.

[FR Doc. 05-819 Filed 1-13-05; 8:45 am]

BILLING CODE 6560-50-P